SOCIAL SECURITY ADMINISTRATION

[Docket No: SSA-2017-0023]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0023].

I. The information collection below is pending at SSA. SSA will submit it to OMB within 60 days from the date of this notice. To be sure we consider your comments, we must receive them no later than July 5, 2017. Individuals can obtain copies of the collection instruments by writing to the above email address.

SSI Notice of Interim Assistance Reimbursement (IAR)—0960-0546. Section 1631(g) of the Social Security Act (Act) authorizes SSA to reimburse an IAR agency from an individual's retroactive Supplemental Security Income (SSI) payment for assistance the IAR agency gave the individual for meeting basic needs while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if they did not file an application prior to SSA receiving the authorization. Agencies who wish to enter into an IAR agreement with SSA need to meet the following requirements:

• Reporting Requirements—Each IAR agency agrees to:

○ (a) Notify SSA of receipt of an authorization for initial claims or cases they are appealing, and (b) submit a copy of that authorization either through a manual or electronic process;

○ (c) inform SSA of the amount of reimbursement;

○ (d) submit a written request for dispute resolution on a determination;

○ (e) notify SSA of interim assistance paid (using the SSA-8125 or the SSA-L8125-F6);

○ (f) inform SSA of any deceased claimants who participate in the IAR program and;

○ (g) review and sign an agreement with SSA.

• Recordkeeping Requirements (h & i)—The IAR agencies agree to retain all notices, agreement, authorizations, and accounting forms for the period defined in the IAR agreement for the purposes of SSA verifying transactions covered under the agreement.

• Third Party Disclosure Requirements (j)—Each participating IAR agency agrees to send written notices from the IAR agency to the recipient regarding payment amounts and appeal rights.

• Periodic Review of Agency Accounting Process (k-m)—The IAR agency makes the IAR accounting records of paid cases available for SSA review and verification. SSA conducts reviews either onsite or through the mail of the authorization forms, notices to the claimant and accounting forms. Upon completion of the review, SSA provides a written report of findings to the IAR agency director.

The respondents are State IAR officers.

Type of Request: Revision of an OMB-approved information collection.

Reporting Requirements
Modality of completion | Number of respondents | Frequency of response | Number of responses | Average burden per response (minutes) | Estimated total annual burden (hours)
(a) State notification of receipt of authorization (Electronic Process) | 11 | Once per SSI claimant | 97,330 | 1 | 1,622
(b) State submission of copy of authorization (Manual Process) | 27 | Once per SSI claimant | 68,405 | 3 | 3,420
(c) State submission of amount of IA paid to recipients (using eIAR) | 38 | Once per SSI claimant | 101,352 | 8 | 13,514
(d) State request for determination—dispute resolution | (¹) | As needed | 2 | 30 | 1
(e) State computation of reimbursement due form SSA using paper Form SSA-L8125-F6 | 38 | Once per SSI claimant | 1,524 | 30 | 762
(f) State notification to SSA of deceased claimant | 20 | As needed when SSI claimant dies while claim is pending | 40 | 15 | 10
(g) State reviewing/signing of IAR Agreement | 38 | Once during life of the IAR agreement | 38 | ² 12 | 456
Recordkeeping Requirements
(h) Maintenance of authorization forms | 38 | One form per SSI claimant | ³ 165,735 | 3 | 8,287
(i) Maintenance of accounting forms and notices | 38 | One form per SSI claimant | 101,352 | 3 | 5,068
Third Party Disclosure Requirements
(j) Written notice from State to recipient regarding amount of payment | 38 | Once per SSI claimant | 101,352 | 7 | 11,824
Periodic Review of Agency Accounting Process
(k) Retrieve and consolidate authorization and accounting forms | 12 | One set of forms per SSI claimant for review by SSA once every 2 to 3 years | 12 | 3 | 36
(l) Participate in periodic review | 12 | For review by SSA once every 2 to 3 years | 12 | 16 | 192
(m) Correct administrative and accounting discrepancies | 6 | To correct errors discovered by SSA in periodic review | 6 | 4 | 24
Total Administrative Burden
Totals | 38 |  | 639,160 |  | 45,216

¹ Average of about 2 States per year.

² Hours.

³ Includes both denied and approved SSI claims.

II. SSA submitted the information collections below to OMB for clearance. Your comments regarding these information collections would be most useful if OMB and SSA receive them 30 days from the date of this publication. To be sure we consider your comments, we must receive them no later than June 5, 2017. Individuals can obtain copies of the OMB clearance packages by writing to OR.Reports.Clearance@ssa.gov.

1. Statement Regarding Marriage—20 CFR 404.726—0960-0017. According to Section 216(h)(1)(A) of the Act, SSA must apply state law when determining an individual's marital status. Some state laws recognize marriages without a ceremony (i.e., common-law marriages). In such cases, SSA provides the same spouse or widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent, cohabitation, and holding out to the public as married, which are the basic tenets of a common-law marriage. SSA uses the information to determine if a valid marital relationship exists, and if the common-law spouse is entitled to Social Security spouse or widow(er) benefits. The respondents are third parties who can confirm or deny the alleged common-law marriage.

Type of Request: Revision of an OMB-approved information collection.

Modality of completion | Number of respondents | Frequency of response | Average burden per response (minutes) | Estimated total annual burden (hours)
SSA-753 | 40,000 | 1 | 9 | 6,000

2. Statement of Income and Resources—20 CFR 416.207, 146.301-416.310, 416.704, and 416.708—0960-0124. SSA collects information about income and resources for SSI claims and redeterminations on the SSA-8010-BK. SSA uses the information to make initial or continuing eligibility determinations for SSI claimants or recipients who are subject to deeming. The respondents are people whose income and resources SSA may deem (consider to be available) to SSI applicants or recipients.

Type of Request: Revision of an OMB-approved information collection.

Modality of completion | Number of respondents | Frequency of response | Average burden per response (minutes) | Estimated total annual burden (hours)
SSA-8010-BK | 341,000 | 1 | 26 | 147,767

3. Claimant's Work Background—20 CFR 404.1512(a); 404.1520(a)(4); 404.1565(b); 416.912(a); 416.920(a)(4); 416.965(b)—0960-0300. Sections 205(a) and 1631(e) of the Act provide the Commissioner of Social Security with the authority to establish procedures for determining if a claimant is entitled to disability benefits. The administrative law judge (ALJ) may ask individuals to provide background information on Form HA-4633 about work they performed in the past 15 years. When a claimant requests a hearing before an ALJ to establish an entitlement to disability benefits, the ALJ may request that the claimant provide a work history to assist the ALJ in fully inquiring into statutory issues related to the disability. The ALJ uses the information collected from the claimants on Form HA-4633 to: (1) Identify the claimant's relevant work history; (2) decide if SSA requires expert vocational testimony and, if so, have a vocational expert available to testify during the hearing; and (3) provide a reference for the ALJ to discuss the claimant's work history. The ALJ makes the completed HA-4633 part of the documentary evidence of record. The respondents are claimants for disability benefits under Title II or Title XVI who requested a hearing before an ALJ after SSA denied their application for disability payment.

Type of Request: Revision of an OMB-approved information collection.

Modality of completion | Number of respondents | Frequency of response | Average burden per response (minutes) | Estimated total annual burden (hours)
HA-4633—PDF/paper version | 20,000 | 1 | 15 | 5,000
Electronic Records Express | 180,000 | 1 | 15 | 45,000
Total | 200,000 |  |  | 50,000

4. Social Security Administration Eligible Non-Attorney Representative—20 CFR 404.1717, 404.1745-404.1799, 416.1517, and 416.1545-416.1599—0960-0699. Section 3 of the Social Security Disability Applicants Access to Professional Representation Act (PRA) of 2010, Public Law 111-142, permanently extends the direct payment provision of Section 303 of the Social Security Protection Act (SSPA) of 2004, Public Law 108-203. The PRA permits SSA to extend direct payment of approved fees from claimants' past-due benefits to certain non-attorney representatives. Prior to the enactment of the SSPA and PRA, only attorneys could receive direct payment of SSA-approved fees. Under the PRA, non-attorneys must meet certain prerequisites to be eligible for direct payment of fees. These prerequisites include: (1) A bachelor's degree from an accredited institution of higher education, or four years of relevant professional experience and a high school diploma or General Education Development certificate; (2) passing a written examination administered by SSA testing the knowledge of relevant provisions of the Act under Titles II and XVI; (3) securing and maintaining continuous professional liability insurance, or equivalent, to protect claimants from malpractice; (4) passing a criminal background check; (5) demonstrating ongoing completion of continuing education courses. The PRA requires SSA to collect the information needed to determine if applicants have satisfied these prerequisites. SSA uses the information we collect on Form SSA-1691 to determine whether an applicant has fulfilled the statutory prerequisites and regulatory requirements as listed above. To verify this information, we also request the five required items listed above from each new applicant, and we request items #3 and #5 from all non-attorney representatives (new and existing) on a yearly basis. Every year, SSA evaluates the applications, conducts verification investigations, and issues recommendations regarding applicants' eligibility to sit for the examination and eligibility to receive direct payment. The respondents are non-attorneys who want to receive direct payment of their fees for representational services before SSA

Type of Request: Revision of an OMB-approved information collection.

Modality of completion | Number of respondents | Frequency of response | Average burden per response (minutes) | Estimated total annual burden (hours)
New Respondents—Paper Application (complete and submit)—404.1717(b)&(c); 416.1517(b)&(c) | 200 | 1 | 45 | 150
New Respondents Examination—404.1717(a)(5); 416.1517(a)(5) | 200 | 1 | 120 | 400
New Respondents—Submission of proof of Bachelor's Degree or Equivalent Qualifications—404.1717(a)(3); 416.1517(a)(3) | 200 | 1 | 10 | 33
New and Existing Respondents—CE Submission via email/mail/or FAX of training courses taken as prescribed by SSA—404.1717(a)(7); 416.1517(a)(7) | 710 | 1 | 20 | 237
New and Existing Respondents—Proof of Continuous Professional or Business Liability Insurance Coverage (Scan and Email)—404.1717(a)(6); 416.1517(a)(6) | 672 | 1 | 10 | 112
New and Existing Respondents—Proof of Continuous Professional or Business Liability Insurance Coverage (Copy and Mail)—404.1717(a)(6); 416.1517(a)(6) | 38 | 1 | 15 | 10
New and Existing Respondents—Written Protests—404.1717(d); 416.1517(d) | 45 | 1 | 45 | 34
Totals | 2,065 |  |  | 976

Dated: May 2, 2017.
Naomi R. Sipple,
Reports Clearance Officer, Social Security Administration.

[FR Doc. 2017-09084 Filed 5-4-17; 8:45 am]

BILLING CODE 4191-02-P